DEPARTMENT OF HEALTH AND HUMAN SERVICES

Office of the Secretary

[Document Identifier: OS-0990-0000]

30-Day Notice

AGENCY: Office of the Secretary, HHS.

ACTION: Agency information collection activities: proposed collection; comment request.

In compliance with the requirement of section 3506(c)(2)(A) of the Paperwork Reduction Act of 1995, the Office of the Secretary (OS), Department of Health and Human Services, is publishing the following summary of a proposed collection for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Type of Information Collection Request: New collection.

Title of Information Collection: Understanding Barriers and Successful Strategies for Faith-Based Organizations in Accessing Grants.

Form/OMB No.: OS-0990-0000.

Use: The Understanding Barriers and Successful Strategies for Faith-Based Organizations (FBOs) in Accessing Grants study will identify perceived or underlying barriers faith-based organizations may face in applying for federal discretionary grants, as well as identify the strategies and approaches used by successful applicants. The data gathered will help Health and Human Services understand the effectiveness of its past internal efforts to ensure that FBOs had equal access to grants, and whether additional steps should be considered. Additionally, this study should provide future FBO grant applicants, as well as other nonprofit organizations, information that could be used to improve the quality of their grant applications and their capacity to seek federal funding.

Frequency: Single time.

Affected Public: Not-for-profit institutions.

Annual Number of Respondents: 290.

Total Annual Responses: 290.

Average Burden Per Response: 35.2 minutes.

Total Annual Hours: 170.

To obtain copies of the supporting statement and any related forms for the proposed paperwork collections referenced above, e-mail your request, including your address, phone number, OMB number, and OS document identifier, to Sherette.funncoleman@hhs.gov, or call the Reports Clearance Office on (202) 690-6162. Written comments and recommendations for the proposed information collections must be received within 30 days of this notice directly to the Desk Officer at the address below:

OMB Desk Officer: John Kraemer, OMB Human Resources and Housing Branch, Attention: (OMB #0990-0000), New Executive Office Building, Room 10235, Washington DC 20503.

Dated: May 10, 2007.
Alice Bettencourt,
Office of the Secretary, Paperwork Reduction Act Reports Clearance Officer.

[FR Doc. E7-9529 Filed 5-16-07; 8:45 am]

BILLING CODE 4154-07-P